DEPARTMENT OF LABOR

Employment and Training Administration

[TA-W-85,058]

Learjet Inc., a Kansas Corporation, a Wholly Owned Indirect Subsidiary of Bombardier, Inc., Including On-Site Leased Workers From Additional Technical Support, Inc., Aero Structures Analysis Partners, LLC, Aerotek Aviation, Black Diamond Networks, Bruce Lutz Consultant, Choson Resource, CJ Johnson Enterprises, Inc. Daca International, Dark Space, Inc., Donatech Corporation, Experts Technical Staffing, Foster Design Co., Inc., Global Contract Professionals, Inc., Hi-Tek Professionals, Inconen, Johnson Service Group, Jonas Services, Inc., Noramtec, Owens Aerospace Of America, Inc., PDS Engineering, PDS Production, PCO Innovation, Precision Personnel, Precision Resources Co., Inc., Spencer Reed Group, Strom, Valper Engineering, Volt Technical Resources, LLC and Advanced Technology Innovation Corporation, Wichita, Kansas; Amended Certification Regarding Eligibility To Apply for Worker Adjustment Assistance

In accordance with Section 223 of the Trade Act of 1974, as amended (“Act”), 19 U.S.C. 2273, the Department of Labor issued a Certification of Eligibility to Apply for Worker Adjustment Assistance on May 6, 2014, applicable to workers of Learjet Inc., a Kansas Corporation, a wholly owned indirect subsidiary of Bombardier, Inc., including on-site leased workers from Additional Technical Support, Inc., Aero Structures Analysis Partners, LLC, Aerotek Aviation, Black Diamond Networks, Bruce Lutz Consultant, Choson Resource, CJ Johnson Enterprises, Inc. Daca International, Dark Space, Inc., Donatech Corporation, Experts Technical Staffing, Foster Design Co., Inc., Global Contract Professionals, Inc., Hi-Tek Professionals, Inconen, Johnson Service Group, Jonas Services, Inc., Noramtec, Owens Aerospace Of America, Inc., PDS Engineering, PDS Production, PCO Innovation, Precision Personnel, Precision Resources Co., Inc., Spencer Reed Group, Strom, Valper Engineering, and Volt Technical Resources, LLC, Wichita, Kansas.

At the request of company official, the Department reviewed the certification for workers of the subject firm. The workers were engaged in the production of aircraft.

The company reports that workers leased from Advanced Technology Innovation Corporation were employed on-site at Learjet Inc., Wichita, Kansas. The Department has determined that these workers were sufficiently under the control of the subject firm to be considered leased workers.

Based on these findings, the Department is amending this certification to include workers leased from Advanced Technology Innovation Corporation, working on-site at the Wichita, Kansas location of Learjet Inc., a Kansas Corporation, a wholly owned indirect subsidiary of Bombardier, Inc.

The amended notice applicable to TA-W-85,058 is hereby issued as follows:

“All workers of Learjet Inc., a Kansas Corporation, a wholly-owned subsidiary of Bombardier, Inc., including on-site leased workers from Additional Technical Support, Inc., Aero Structures Analysis Partners, LLC, Aerotek Aviation, Black Diamond Networks, Bruce Lutz Consultant, Choson Resource, CJ Johnson Enterprises, Inc. Daca International, Dark Space, Inc., Donatech Corporation, Experts Technical Staffing, Foster Design Co., Inc., Global Contract Professionals, Inc., Hi-Tek Professionals, Inconen, Johnson Service Group, Jonas Services, Inc., Noramtec, Owens Aerospace Of America, Inc., PDS Engineering, PDS Production, PCO Innovation, Precision Personnel, Precision Resources Co., Inc., Spencer Reed Group, Strom, Valper Engineering, Volt Technical Resources, LLC, and Advanced Technology Innovation Corporation, Wichita, Kansas, who became totally or partially separated from employment on or after February 6, 2013 through May 6, 2016, and all workers in the group threatened with total or partial separation from employment on the date of certification through May 6, 2016, are eligible to apply for adjustment assistance under Chapter 2 of Title II of the Trade Act of 1974, as amended.”

Signed in Washington, DC this 4th day of December, 2014.
Michael W. Jaffe,
Certifying Officer, Office of Trade Adjustment Assistance.

[FR Doc. 2014-29510 Filed 12-16-14; 8:45 am]

BILLING CODE 4510-FN-P